ENVIRONMENTAL PROTECTION AGENCY

[FRL-9215-6]

Science Advisory Board Staff Office; Request for Nominations of Experts To Serve on the Clean Air Scientific Advisory Committee (CASAC) Air Monitoring and Methods Subcommittee (AMMS)

AGENCY: Environmental Protection Agency (EPA).

ACTION: Notice.

SUMMARY: The EPA Science Advisory Board (SAB) Staff Office is requesting public nominations of experts to serve on the Clean Air Scientific Advisory Committee (CASAC) Air Monitoring and Methods Subcommittee (AMMS).

DATES: Nominations should be submitted by November 10, 2010, per instructions below.

FOR FURTHER INFORMATION CONTACT: Any member of the public wishing further information regarding this Notice and Request for Nominations may contact Dr. Holly Stallworth, Designated Federal Officer (DFO), SAB Staff Office, by telephone/voice mail at (202) 564-2073; by fax at (202) 565-2098 or via e-mail at stallworth.holly@epa.gov. General information concerning the CASAC can be found on the EPA CASAC Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act.

Section 109(d)(1) of the CAA requires that the Agency periodically review and revise, as appropriate, the air quality criteria and the National Ambient Air Quality Standard (NAAQS) for the six “criteria” air pollutants. EPA's Office of Air Quality Planning and Standards (OAQPS) requests independent review and advice from CASAC on the following subjects:

• Oxides of Nitrogen (NOX)-Sulfur Oxides (SOX) Monitoring and Network Design—A review of candidate methods for assessing levels of N and S deposition; specifically constituents such as particulate sulfate, total oxidized nitrogen (NOy), sulfur dioxide (SO2), and ammonia gas and ammonia ion combined (NHX) in the assessment of an Atmospheric Acidification Potential Index, and the potential network design for a monitoring system in support of a secondary NOX/SOX NAAQS.

• Photochemical Assessment Monitoring Stations (PAMS): Network Re-engineering—Advice on potential revisions to the technical and regulatory aspects of the PAMS program; including changes to required measurements and associated network design requirements and a review of appropriate technology, sampling frequency, and overall program objectives in the context of the most recently revised ozone NAAQS and changes to atmospheric chemistry that have occurred over the past 10-15 years in the most significantly impacted areas.

• Network Design Guidance Development for Near-road Ambient Air Monitoring Requirements: Multi-pollutant Focus—Review of the progress of a pilot monitoring study including site selection, planned measurements, and timeline; review of EPA's Near-road Network Design Technical Assistance Document (first Draft) including assessment of procedures for identifying maximum site location(s) including dispersion modeling and evaluation of potential biasing factors and recommended measurements for near-road compliance network; and a review of the role of alternative technology such as passive measurement in compliance and research monitoring studies.

• Methods for Volatile Organic Compounds (VOCs)—Advice on potential improvements to TO-15 with particular emphasis on improving the characterization of acrolein; review method revisions for canister cleaning procedures, preparation of calibration standards, performance testing protocols, and subsequent changes to air quality system reporting procedures; advice on improvements for TO-13A methodology for compounds such as naphthalene, other polyaromatic hydrocarbons (PAHs) and branched PAHs; and advice on role of new technology in characterizing volatile and semi-volatile compounds on a real-time or near real-time basis.

In response to OAQPS request, the Science Advisory Board Staff Office is requesting public nominations of scientific and technical experts to form a new subcommittee of the CASAC to provide advice on the four advisory topics as described above. This subcommittee, the CASAC Air Monitoring and Methods Subcommittee (AAMS) may in the future address additional monitoring and methods issues related to other criteria pollutants and hazardous air pollutants. The AMMS will provide independent advice to the Administrator through the CASAC, a chartered Federal Advisory Committee, under the Federal Advisory Committee Act (FACA), as amended (5 U.S.C. App.). The AMMS will comply with the provisions of FACA and all appropriate SAB Staff Office procedural policies.

Request for Nominations: The SAB Staff Office is seeking nominations of recognized, national experts in one or more of the following disciplines: Atmospheric sciences, dispersion modeling, atmospheric chemistry, ecosystem modeling, aquatic chemistry, environmental science and engineering, risk assessment, and statistical analysis. In particular, we seek nominees with knowledge of ambient air monitoring methods for criteria pollutants and air toxics, ambient air network design, environmental data analysis, quality assurance, dispersion modeling, emission inventories for point and mobile sources, source apportionment techniques, atmospheric chemistry, meteorology, and assessment of ecosystem impacts.

Process and Deadline for Submitting Nominations: Any interested person or organization may nominate individuals qualified in the area of science as described above to be considered for appointment to augment the Council for this review. Candidates also may nominate themselves. Nominations should be submitted in electronic format (which is preferred over hard copy) following the instructions for “Nominating Experts to Advisory Panels and Ad Hoc Committees Being Formed” http://www.epa.gov/sab provided on the SAB Web site. The form can be accessed through the “Nomination of Experts” link on the blue navigational bar on the SAB Web site at http://www.epa.gov/casac. To receive full consideration, nominations should include all of the information requested, and should be submitted in time to arrive no later than November 10, 2010. EPA values and welcomes diversity. In an effort to obtain nominations of diverse candidates, EPA encourages nominations of women and men of all racial and ethnic groups.

EPA's SAB Staff Office requests contact information about: The person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Stallworth, DFO, at the contact information provided above in this notice. Non-electronic submissions must follow the same format and contain the same information as the electronic.

The SAB Staff Office will acknowledge receipt of the nomination and inform nominees of the Subcommittee for which they have been nominated. From the nominees identified by respondents to this Federal Register notice and other sources, the SAB Staff Office will develop a list of candidates for more detailed consideration. The list of candidates will be posted on the SAB Web site at http://www.epa.gov/casac and will include, for each candidate, the nominee's name and biosketch. Public comments on the list of candidates will be accepted for 21 calendar days. During this comment period, the public will be requested to provide information, analysis, or other documentation on nominees that the SAB Staff Office should consider in evaluating candidates for the Committee.

For the SAB Staff Office, a balanced Committee is characterized by inclusion of candidates who possess the necessary domains of knowledge, the relevant scientific perspectives (which, among other factors, can be influenced by work history and affiliation) and the collective breadth of experience to adequately address the charge. Public responses to the list of candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; (e) ability to work constructively and effectively in committees; and (f) for the Committee as a whole, diversity of scientific expertise and viewpoints.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal Advisory Committee) and private interests and activities, or the appearance of a lack of impartiality, as defined by Federal regulation. Ethics information, including EPA Form 3110-48, is available on the SAB Web site at http://yosemite.epa.gov/sab/sabproduct.nsf/Web/ethics?OpenDocument.

Dated: October 14, 2010.
Vanessa T. Vu,
Director, EPA Science Advisory Board Staff Office.

[FR Doc. 2010-26448 Filed 10-19-10; 8:45 am]

BILLING CODE 6560-50-P